DEPARTMENT OF JUSTICE

Antitrust Division

Notice Pursuant to the National Cooperative Research and Production Act of 1933—IMS Global Learning Consortium, Inc.

Notice is hereby given that, on July 6, 2006, pursuant to Section 6(a) of the National Cooperative Research and Production Act of 1993, 15 U.S.C. 4301 et seq. (“the Act”), IMS Global Learning Consortium, Inc. has filed written notifications simultaneously with the Attorney General and the Federal Trade Commission disclosing changes in its membership. The notifications were filed for the purpose of extending the Act's provisions limiting the recovery of antitrust plaintiffs to actual damages under specified circumstances. Specifically, Digital Spirit, Berlin, Germany; Horizon Wimba, New York, NY; Respondus, Redmon, WA; and Sun Microsystems, inc., Mountain View, CA have been added as parties to this venture. Also, Brownstone Research Group, Rome, GA has withdrawn as a party to this venture.

No other changes have been made in either the membership or planned activity of the group research project. Membership in this group research project remains open, and IMS Global Learning Consortium, Inc. intends to file additional written notification disclosing all changes in membership.

On April 7, 2000, IMS Global Learning Consortium, Inc. filed its original notification pursuant to Section 6(a) of the Act. The Department of Justice published a notice in the Federal Register pursuant to Section 6(b) of the Act on September 13, 2000 (65 FR 55283).

The last notification was filed with the Department on April 10, 2006. A notice was published in the Federal Register pursuant to Section 6(b) of the Act on May 10, 2006 (71 FR 27279).

Patricia A. Brink,
Deputy Director of Operations, Antitrust Division.

[FR Doc. 06-6780 Filed 8-8-06; 8:45 am]

BILLING CODE 4410-11-M